DEPARTMENT OF THE INTERIOR

Minerals Management Service

Outer Continental Shelf, Gulf of Mexico Region, Proposed Central and Western Gulf Multisale Environmental Impact Statement

AGENCY: Minerals Management Service, Interior.

ACTION: Notice of Availability of the Draft Environmental Impact Statement (EIS) and Locations and Dates of Public Hearings on Proposed Central Planning Area Sales 185, 190, 194, 198, and 201, and Proposed Western Planning Area Sales 187, 192, 196, and 200.

SUMMARY: The Minerals Management Service (MMS) has prepared a draft environmental impact statement (EIS) for nine proposed areawide oil and gas lease sales in the Central Planning Area (CPA) and Western Planning Area (WPA) outer continental shelf (OCS) of the Gulf of Mexico.

DATES: Comments on Draft EIS due May 31, 2002.

Public Hearings—New Orleans, May 1, 2002; Houston, Texas, April 30, 2002; Mobile, Alabama, May 2, 2002.

FOR FURTHER INFORMATION CONTACT: Minerals Management Service, Gulf of Mexico OCS Region, 1201 Elmwood Park Boulevard, New Orleans, Louisiana 70123-2394, Mr. Joseph Christopher, telephone (504) 736-2774.

SUPPLEMENTARY INFORMATION: This EIS addresses nine proposed federal actions that offer for lease areas on the Gulf of Mexico OCS that may contain economically recoverable oil and gas resources. Federal regulations allow for several related or similar proposals to be analyzed in one EIS (40 CFR 1502.4). Since each lease sale proposal and projected activities are very similar each year for each planning area, a single EIS is being prepared for all nine Central and Western Gulf sales scheduled in the proposed Outer Continental Shelf Oil and Gas Leasing Program: 2002-2007 (the proposed 5-Year Program). Under the proposed 5-Year Program, five annual areawide lease sales are scheduled for the CPA and five annual areawide lease sales are scheduled for the WPA. The first proposed lease sale—Western Gulf Sale 184—is not addressed in this multisale EIS; a separate environmental analysis is being done for that proposal. The Central Gulf sales addressed in this EIS are Sale 185 in 2003, Sale 190 in 2004, Sale 194 in 2005, Sale 198 in 2006, and Sale 201 in 2007. The Western Gulf sales are Sale 187 in 2003, Sale 192 in 2004, Sale 196 in 2005, and Sale 200 in 2006. Although this EIS addresses nine proposed lease sales, at the completion of this EIS process, decisions will be made only for proposed Sale 185 in the CPA and proposed Sale 187 in the WPA. A National Environmental Policy Act (NEPA) review will be conducted for each subsequent lease sale in the proposed 5-Year Program.

Public Hearings

Public hearings on the draft EIS will be held at the following locations on the dates and times listed: New Orleans, Louisiana, Wednesday, May 1, 2002, 2-4 p.m., Minerals Management Service, 1201 Elmwood Park Boulevard; Houston, Texas, Tuesday, April 30, 2002, 1-3 p.m., Houston Airport Marriott, 18700 Kennedy Boulevard; Mobile, Alabama, Thursday, May 2, 2002, 2-4 p.m. and 6:30-8:30 p.m, Adams Mark Hotel, 64 South Water Street. The contact person for these hearings is Ms. Janet Diaz at telephone number (504) 736-2540. Interested individuals, representatives of organizations, and public officials who wish to testify at the public hearings are requested to notify Ms. Diaz at least five days prior to the hearing. If time is available during the hearing period, after the presentation of oral statements by those who have pre-registered, other individuals will be given an opportunity to be heard. Time limitations may make it necessary to limit the length of each oral presentation to ten minutes or less. An oral statement may be supplemented by a written statement, which should be submitted to the hearing officer at the time of the oral presentation. Hearings will recess when all speakers have had an opportunity to testify. If there are no additional speakers, the hearing will adjourn immediately after the recess.

If you cannot attend the hearings, or if you prefer, you may submit your comments in writing to the address below.

Written Comments

MMS requests interested parties to submit comments on the draft EIS to Minerals Management Service, Gulf of Mexico OCS Region, Office of Leasing and Environment, Attention: Regional Supervisor (MS 5410), 1201 Elmwood Park Boulevard, New Orleans, Louisiana 70123-2394 by May 31, 2002. Our practice is to make comments, including the name and home address of respondents, available for public review. An individual commenter may ask that we withhold name, home address, or both from the public record, and we will honor such a request to the extent allowable by law. If you submit comments and wish us to withhold such information, you must state so prominently at the beginning of your submission. We will not consider anonymous comments, and we will make available for inspection in their entirety all comments submitted by organizations and businesses or by individuals identifying themselves as representatives of organizations and businesses. The comment period ends on May 31, 2002.

EIS Availability

You may find out which local libraries along the Gulf Coast have copies of the draft EIS for review, or you may obtain single copies of the draft EIS from the Minerals Management Service, Gulf of Mexico OCS Region, Attention: Public Information Office (MS 5034), 1201 Elmwood Park Boulevard, Room 114, New Orleans, Louisiana 70123-2394 or by calling 1-800-200-GULF. For a list of libraries containing the EIS you may also call Mrs. Diaz at the number listed in the Public Hearings portion of this notice. The list of libraries and their locations are also available on the Gulf of Mexico regional home page on the Internet at http://www.temporarygomr.com.

After the public hearing testimony and written comments on the draft EIS have been reviewed and analyzed, a final EIS will be prepared.

Dated: March 29, 2002.
Thomas A. Readinger,
Associate Director for Offshore Minerals Management.
Approved: March 29, 2002.
Willie R. Taylor,
Director, Office of Environmental Policy and Compliance.

[FR Doc. 02-8364 Filed 4-5-02; 8:45 am]

BILLING CODE 4310-MR-P